FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than May 26, 2021.

A. Federal Reserve Bank of Dallas (Karen Smith, Director, Applications) 2200 North Pearl Street, Dallas, Texas 75201-2272:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of Prosperity Bancshares, Inc., Houston, Texas, and thereby indirectly acquire additional voting shares of Prosperity Bank, El Campo, Texas.

B. Federal Reserve Bank of New York (Ivan Hurwitz, Senior Vice President) 33 Liberty Street, New York, New York 10045-0001. Comments can also be sent electronically to Comments.applications@ny.frb.org:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of Community Bank System, Inc., DeWitt, New York, and thereby indirectly acquire additional voting shares of Community Bank, National Association, Canton, New York.

C. Federal Reserve Bank of San Francisco (Sebastian Astrada, Director, Applications) 101 Market Street, San Francisco, California 94105-1579:

1. The Vanguard Group, Inc., Malvern, Pennsylvania; on behalf of itself, its subsidiaries and affiliates, including investment companies registered under the Investment Company Act of 1940, other pooled investment vehicles, and institutional accounts that are sponsored, managed, or advised by Vanguard; to acquire additional voting shares of Westamerica Bancorporation, and thereby indirectly acquire voting shares of Westamerica Bank, both of San Rafael, California.

D. Federal Reserve Bank of Kansas City (Jeffrey Imgarten, Assistant Vice President) 1 Memorial Drive, Kansas City, Missouri 64198-0001:

1. The Frank L. Bruning Nonqualifying Trust Share (“FL Bruning Trust”), Fred D. Bruning, Bruning, Nebraska, and Jane A. Tonniges, Omaha, Nebraska, as co-trustees, and the Mary B. Bruning Revocable Trust (“MB Bruning Trust”), Mary B. Bruning, as co-trustee, both of Bruning, Nebraska; to retain voting shares of Bruning Bancshares, Inc., and indirectly retain voting shares of Bruning Bank, both of Bruning, Nebraska. Additionally, the Jane A. Tonniges Revocable Trust, Jane A Tonniges, as trustee, and Christopher Tonniges, all of Omaha, Nebraska; the Fred D. Bruning 2020 Irrevocable Trust, Penni J. Bruning, trustee, both of Bruning, Nebraska, and Dennis C. Stara, special purpose trustee, Lincoln, Nebraska; Adam F. Bruning, Hebron, Nebraska; Reiss L. Bruning, Bruning, Nebraska; and Dennis C. Stara, Lincoln, Nebraska; with the FL Bruning Trust and the MB Bruning Trust, to join the Bruning Family Group, a group acting in concert, to retain voting shares of Bruning Bancshares, Inc., and indirectly retain voting shares of Bruning Bank.

Board of Governors of the Federal Reserve System, May 5, 2021.
Michele Taylor Fennell,
Deputy Associate Secretary of the Board.

[FR Doc. 2021-09880 Filed 5-10-21; 8:45 am]

BILLING CODE P